DEPARTMENT OF LABOR

Employment and Training Administration

[TA-W-71,047; TA-W-71,047A]

UAW-Chrysler National Training Center Technology Training Joint Programs Staff, Detroit, MI; UAW-Chrysler Technical Training Center Technology Training Joint Programs Staff, Warren, MI; Notice of Revised Determination on Reconsideration

By application dated June 15, 2010, the State of Michigan Trade Adjustment Assistance (TAA) Coordinator requested administrative reconsideration of the Department's negative determination regarding eligibility for workers and former workers of UAW-Chrysler National Training Center, Detroit, Michigan (subject firm) to apply for TAA. The negative determination, issued on April 13, 2010, was based on the Department's finding that a significant number or proportion of the workers the subject firm was not totally or partially separated or threatened with such separation. The Department's Notice was published in the Federal Register on May 20, 2010 (75 FR 28301). The Department's Notice of Affirmative Determination Regarding Application for Reconsideration was signed on June 21, 2010, and was published in the Federal Register on July 1, 2010 (75 FR 38126).

To support the request for reconsideration, the petitioner supplied additional information regarding the number of workers separated from the subject firm and regarding the eligibility of workers at several Chrysler plants to apply for TAA.

Based on the information received during the reconsideration investigation, the Department has determined that the subject worker group consists of the training facility in Detroit, Michigan and a training facility in Warren, Michigan; the subject worker group are members of the Technology Training Joint Programs Staff; and the criteria set forth in Section 222(a) has been met.

During the reconsideration investigation, the Department confirmed that the proportion of Technology Training Joint Programs Staff separated at each subject facility met the statutory threshold.

During the reconsideration investigation, the Department sought detailed information about the types of training provided at the subject facilities. The information revealed that the technical training provided (such as applied industrial technology, industrial automation, industrial maintenance, and welding) supported the production of articles manufactured at several Chrysler plants whose workers have been certified eligible to apply for TAA based on increased imports of articles like or directly competitive with the articles that were produced directly using the training services supplied by the subject facilities.

Conclusion

After careful review of the additional facts obtained on reconsideration, I determine that workers of UAW-Chrysler National Training Center, Technology Training Joint Programs Staff, Detroit, Michigan, and Warren, Michigan, who are engaged in employment related to the supply of technical training services, meet the worker group certification criteria under Section 222(a) of the Act, 19 U.S.C. 2272(a). In accordance with Section 223 of the Act, 19 U.S.C. 2273, I make the following certification:

All workers of UAW-Chrysler National Training Center, Technology Training Joint Programs Staff, Detroit, Michigan (TA-W-71,047), and Warren, Michigan (TA-W-71,047A), who became totally or partially separated from employment on or after May 27, 2008, through two years from the date of this certification, and all workers in the group threatened with total or partial separation from employment on date of certification through two years from the date of certification, are eligible to apply for adjustment assistance under Chapter 2 of Title II of the Trade Act of 1974, as amended.

Signed in Washington, DC, this 22nd day of December 2010.
Del Min Amy Chen,
Certifying Officer, Office of Trade Adjustment Assistance.

[FR Doc. 2011-511 Filed 1-11-11; 8:45 am]

BILLING CODE 4510-FN-P